DEPARTMENT OF ENERGY

Federal Energy Regulatory Commission

Combined Notice of Filings

Take notice that the Commission has received the following Natural Gas Pipeline Rate and Refund Report filings:

Filings Instituting Proceedings

Docket Numbers: RP12-668-000.

Applicants: WPX Energy Marketing, LLC, Williams Energy Resources LLC.

Description: Joint Petition of WPX Energy Marketing, LLC, et al. for Limited Waiver of Capacity Release Regulations.

Filed Date: 4/27/12.

Accession Number: 20120427-5410.

Comments Due: 5 p.m. ET 5/7/12.

Docket Numbers: RP12-708-000.

Applicants: Equitrans, L.P.

Description: Curtailment of Service and Operational Flow Order Revisions to be effective 6/1/2012.

Filed Date: 5/1/12.

Accession Number: 20120501-5226.

Comments Due: 5 p.m. ET 5/14/12.

Docket Numbers: RP12-709-000.

Applicants: Algonquin Gas Transmission, LLC.

Description: Bay State 510066 Negotiated Rate to be effective 5/1/2012.

Filed Date: 5/1/12.

Accession Number: 20120501-5242.

Comments Due: 5 p.m. ET 5/14/12.

Docket Numbers: RP12-710-000.

Applicants: Wyoming Interstate Company, L.L.C.

Description: WIC Quarterly Fuel filed 5-1-12 to be effective 6/1/2012.

Filed Date: 5/1/12.

Accession Number: 20120501-5292.

Comments Due: 5 p.m. ET 5/14/12.

Docket Numbers: RP12-711-000.

Applicants: Tennessee Gas Pipeline Company, L.L.C.

Description: Regional Net Pipeline Position (RNPP) to be effective 6/1/2012.

Filed Date: 5/1/12.

Accession Number: 20120501-5304.

Comments Due: 5 p.m. ET 5/14/12.

Docket Numbers: RP12-712-000.

Applicants: ETC Tiger Pipeline, LLC.

Description: Tiger Semi-Annual Fuel Filing May 2012 to be effective 6/1/2012.

Filed Date: 5/1/12.

Accession Number: 20120501-5315.

Comments Due: 5 p.m. ET 5/14/12.

Docket Numbers: RP12-713-000.

Applicants: El Paso Natural Gas Company.

Description: Nomination Cycles Update to be effective 6/1/2012.

Filed Date: 5/1/12.

Accession Number: 20120501-5317.

Comments Due: 5 p.m. ET 5/14/12.

Docket Numbers: RP12-714-000.

Applicants: Dominion Transmission, Inc.

Description: DTI—May 1, 2012 Negotiated Rate Agreements to be effective 5/2/2012.

Filed Date: 5/1/12.

Accession Number: 20120501-5320.

Comments Due: 5 p.m. ET 5/14/12.

Docket Numbers: RP12-715-000.

Applicants: Ruby Pipeline, L.L.C.

Description: FL&U and EPC Rate Adjustment Filing to be effective 6/1/2012.

Filed Date: 5/1/12.

Accession Number: 20120501-5321.

Comments Due: 5 p.m. ET 5/14/12.

Docket Numbers: RP12-716-000.

Applicants: CenterPoint Energy Gas Transmission Company, LLC.

Description: CEGT LLC—May 1, 2012 Negotiated Rate Filing to be effective 5/1/2012.

Filed Date: 5/1/12.

Accession Number: 20120501-5325.

Comments Due: 5 p.m. ET 5/14/12.

Docket Numbers: RP12-717-000.

Applicants: Hardy Storage Company, LLC.

Description: RAM 2012 to be effective 6/1/2012.

Filed Date: 5/1/12.

Accession Number: 20120501-5329.

Comments Due: 5 p.m. ET 5/14/12.

Docket Numbers: RP12-718-000.

Applicants: Gulf South Pipeline Company, LP.

Description: Capacity Negotiated Rate Agreement filing—Chesapeake 34683 to Texla 39889 to be effective 5/2/2012.

Filed Date: 5/2/12.

Accession Number: 20120502-5064.

Comments Due: 5 p.m. ET 5/14/12.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP12-498-001.

Applicants: CenterPoint Energy Gas Transmission Company, LLC.

Description: CEGT LLC—Fuel Tracker—Effective May 1, 2012—Compliance Filing to be effective 5/1/2012.

Filed Date: 5/1/12.

Accession Number: 20120501-5233.

Comments Due: 5 p.m. ET 5/14/12.

Docket Numbers: RP12-704-001.

Applicants: Gulf South Pipeline Company, LP.

Description: Amendment to RP12-704-000 to be effective 5/2/2012.

Filed Date: 5/2/12.

Accession Number: 20120502-5060.

Comments Due: 5 p.m. ET 5/14/12.

Docket Numbers: RP11-1435-002.

Applicants: Columbia Gulf Transmission Company.

Description: Settlement Refund Report to be effective N/A.

Filed Date: 5/2/12.

Accession Number: 20120502-5163.

Comments Due: 5 p.m. ET 5/14/12.

Any person desiring to protest in any the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: May 3, 2012.
Nathaniel J. Davis, Sr.,
Deputy Secretary.

[FR Doc. 2012-11276 Filed 5-9-12; 8:45 am]

BILLING CODE 6717-01-P